NUCLEAR REGULATORY COMMISSION

Sunshine Act Meeting

Date: Weeks of June 16, 23, 30, July 7, 14, 21, 2003.

Place: Commissioners' Conference Room, 11555 Rockville Pike, Rockville, Maryland.

Status: Public and closed.

Matters To Be Considered:

Week of June 16, 2003.

There are no meetings scheduled for the Week of June 16, 2003.

Week of June 23, 2003—Tentative

There are no meetings scheduled for the Week of June 23, 2003.

Week of June 30, 2003—Tentative

Tuesday, July 1, 2003

10 a.m. Briefing on Status of Office of Nuclear Security and Incident Response (NSIR) Programs, Performance, and Plans (Closed—Ex. 1)

Week of July 7, 2003—Tentative

There are no meetings scheduled for the Week of July 7, 2003.

Week of July 14, 2003—Tentative

There are no meetings scheduled for the Week of July 14, 2003.

Week of July 21, 2003—Tentative

There are no meetings scheduled for the Week of July 21, 2003.

The schedule for Commission meetings is subject to change on short notice. To verify the status of meetings call (recording)—(301) 415-1292. Contact person for more information: David Louis Gamberoni (301) 415-1651.

* * * * *

Additional Information: By a vote of 4-0 on June 11 and 12, the Commission determined pursuant to U.S.C. 552b(e) and § 9.107(a) of the Commission's rules that “Affirmation of Sequoyah Fuels Corp. (Gore, Oklahoma Site) Presiding Officer's Certified Questions” be held on June 13, and on less than one week's notice to the public.

* * * * *

The NRC Commission Meeting Schedule can be found on the Internet at: www.nrc.gov/what-we-do/policy-making/schedule.html

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: June 12, 2003.
D.L. Gamberoni,
Technical Coordinator, Office of the Secretary.

[FR Doc. 03-15347 Filed 6-13-03; 11:53 am]

BILLING CODE 7590-01-M